DEPARTMENT OF THE INTERIOR

Bureau of Indian Affairs

Office of Indian Education Programs; Proposed Agency Information Collection Activities; Comment Request

AGENCY: Bureau of Indian Affairs, Interior.

ACTION: Notice of proposed renewal of information collections.

SUMMARY: The Bureau of Indian Affairs (BIA) is giving public notice that we will be requesting extension of four currently approved information collections. The collections are: 1076-0096, Education Contracts under JOM Act Applications and Regulatory Requirements, 25 CFR 273.50; 1076-0114, Application for admission to Haskell Indian Nations University and to Southwestern Indian Polytechnic Institute; 1076-0122, Data Elements for Student Enrollment in Bureau-Funded Schools; and 1076-0134, Student Transportation Form, subpart G, 25 CFR part 39. These collections help support the educational efforts for Native American students from elementary through post-secondary levels. The public is invited to comment on the proposed information collection pursuant to the Paperwork Reduction Act of 1995.

DATES: Submit comments on or before September 9, 2005.

ADDRESSES: Send comments to Edward Parisian, Director Office of Indian Education Programs, 1849 C Street, NW., Mail Stop 3609-MIB, Washington, DC 20240, (202) 208-3312.

FOR FURTHER INFORMATION CONTACT: You may request further information or obtain copies of the proposed information collection requests from Glenn Allison, Education Specialist (ISEP), (202) 208-3628, Garry Martin, Chief Education Planning, (202) 208-3478 or Keith Neves, Education Planning Specialist, (202) 208-3601.

SUPPLEMENTARY INFORMATION:

I. Education Contracts Under Johnson-O'Malley Act Application and Regulatory Requirements

The regulatory authority allowing a collection of information to be conducted is provided in 25 CFR 273.50, as authorized by the Act of April 16, 1934 (48 Stat. 596). The collection of information is conducted annually, by tribes, Indian organizations and school districts who have contracted with the Bureau to administer a Johnson-O-Malley Program. The purpose of the collection is to provide for an accounting of expenditures and to measure effectiveness of an educational plan outlining educational objectives for Indian students.

II. Application for Admission to Haskell Indian Nations University and to Southwestern Indian Polytechnic Institute

The Bureau of Indian Affairs (BIA) is providing the admission forms for Haskell Indian Nations University and the Southwestern Indian Polytechnic Institute for 60-day review and comment period. These admission forms are useful in determining program eligibility of American Indian and Alaska Native students for educational services. The forms have been changed to include a Paperwork Reduction Act and Public Burden statements, a Privacy Act statement, and an Effects of Non-Disclosure statement. These forms are utilized pursuant to Blood Quantum Act, Public Law 99-228; the Snyder Act, chapter 115, Public Law 67-85; and, the Indian Appropriations of the 48th Congress, chapter 180, page 91, For Support of Schools, July 4, 1884.

III. Data Elements for Student Enrollment in Bureau-Funded Schools

The data elements for enrollment information collected is for attendance in elementary and secondary schools funded by the Bureau of Indian Affairs and to address the criteria for attendance that was changed by the passage of Public Law 99-228. The Secretary of the Interior, through the Bureau of Indian Affairs, is required to provide educational services to federally recognized Indians and Alaskan Natives. Beginning with the Snyder Act and continuing with Public Laws 93-638, 95-561, 100-297, and 103-382, Congress has enacted legislation to ensure Indians receive educational opportunities. The data elements for enrollment information collected is for attendance in elementary and secondary schools operated and funded by the Bureau of Indian Affairs and to address the criteria for attendance that was changed by the passage of Public Law 99-228. This act allows for the tuition free attendance of any Indian student who is a member of a federally recognized tribe or is ¼ degree blood quantum descendant of a member of such tribes, as well as for dependents of Bureau, Indian Health Service or tribal government employees who live on or near the school site.

IV. Student Transportation Form

The Student Transportation regulations in 25 CFR part 39, subpart G, contain the program eligibility and criteria, which govern the allocation of transportation funds. Information collected from the schools will be used to determine the rate per mile. The information collection is needed to provide transportation mileage for Bureau-funded schools, which will receive an allocation of transportation funds.

V. Request for Comments

The Bureau of Indian Affairs requests your comments on these collections concerning:

(a) The necessity of this information collection for the proper performance of the functions of the agency, including whether the information will have practical utility;

(b) The accuracy of the agency's estimate of the burden (hours and cost) of the collection of information, including the validity of the methodology and assumptions used;

(c) Ways we could enhance the quality, utility and clarity of the information to be collected; and

(d) Ways we could minimize the burden of the collection of the information on the respondents, such as through the use of automated collection techniques or other forms of information technology.

Please note that an agency may not sponsor or request, and an individual need not respond to, a collection of information unless it has a valid OMB Control Number. A valid OMB Control Number is one with a current expiration date.

It is our policy to make all comments available to the public for review at the location listed in the ADDRESSES section, room 3609, during the hours of 8 a.m. to 4 p.m., e.s.t. Monday through Friday except for legal holidays. If you wish to have your name and/or address withheld, you must state this prominently at the beginning of your comments. We will honor your request according to the requirements of the law. All comments from organizations or representatives will be available for review. We may withhold comments from review for other reasons.

VI. Information Collection Abstract

(1) Education Contracts under Johnson-O'Malley Act Application and Regulatory Requirements:

Title: Education Contracts under Johnson O'Malley Act Application and Regulatory Requirements, 25 CFR 273.50.

OMB Control Number: 1076-0096.

Type of Review: Renewal.

Brief Description of collection: The information collected helps BIA determine the financial assistance needed by eligible Indian students to meet their specialized and unique educational needs including programs supplemental to the regular school program and school operational support in order to maintain established educational standards.

Respondents: Tribes, Tribal Organizations, School District education program administrators.

Number of Respondents: 360.

Estimated Time per Response: 5 hours per response × 360 annual responses = 1,800 hours.

Frequency of Response: Annually.

Total Annual Burden to Respondents: 1,800 hours.

(2) Application for Admission to Haskell Indian Nations University and to Southwestern Indian Polytechnic Institute:

Title: Application for Admission to Haskell Indian Nations University and to Southwestern Indian Polytechnic Institute, 25 CFR 273.50.

OMB Control Number: 1076-0114.

Type of Review: Renewal.

Brief Description of Collection: These eligibility application forms are necessary to determine a student's eligibility for educational services. This collection is at no cost to the public.

Respondents: Students attending, or seeking admission, to Haskell Indian Nations University and to Southwestern Indian Polytechnic Institute.

Number of Respondents: 3,943.

Estimated Time per Response: Approximately ½ of an hour per response × 3,943 annual responses = 2,214 hours.

Frequency of Response: Initial enrollment.

Total Annual Burden to Respondents: 2,214 hours.

(3) Data Elements for Student Enrollment in Bureau-funded Schools:

Title: Data Elements for Student Enrollment in Bureau-funded Schools, 25 CFR Part 39.

OMB Control Number: 1076-0122.

Type of Review: Renewal.

Brief Description of Collection: Information necessary to enroll students; information is provided to obtain or retain a benefit, specifically, education.

Respondents: Students or parents provide the information to the registrars.

Number of Respondents: Approximately 48,000 students located at 184 Bureau funded school locations.

Estimated Time per Response: ¼ of an hour per response × 48,000 annual responses = 12,000 hours.

Frequency of Response: Annually.

Total Annual Burden to Respondents: 12,000 hours.

(4) Student Transportation Form:

Title: Student Transportation Form, Subpart G, 25 CFR 39.

OMB Control Number: 1076-0134.

Type of Review: Renewal.

Brief Description of Collection: This collection provides pertinent data concerning the schools' bus transportation mileage and related long distance travel mileage to determine funding for school transportation.

Respondents: Contract and Grant Schools; Bureau operated schools. About 121 tribal school administrators annually gather the necessary information during student count week.

Number of Respondents: 121.

Estimated Time per Response: At an average of 6 hours each 121 reporting schools = 726 hours.

Frequency of Response: Annually.

Total Annual Burden to Respondents: 726 hours.

Dated: June 30, 2005.
Michael D. Olsen,
Acting Principal Deputy Assistant Secretary—Indian Affairs.

[FR Doc. 05-13527 Filed 7-8-05; 8:45 am]

BILLING CODE 4310-6W-P